SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before March 22, 2010.

ADDRESSES: Send all comments regarding whether this information collection is necessary for the proper performance of the function of the agency, whether the burden estimates are accurate, and if there are ways to minimize the estimated burden and enhance the quality of the collection, to Shelia Thomas, Office of Business Development, Small Business Administration, 409 3rd Street, 8th Floor, Washington, DC 20416.

FOR FURTHER INFORMATION CONTACT: Shelia Thomas, mail to: Office of Business Development, 202-205-5852, shelia.thomas@sba.gov., Curtis B. Rich, Management Analyst, 202-205-7030, curtis.rich@sba.gov.

SUPPLEMENTARY INFORMATION: This Form will be an Addendum to the 8(a) Annual Update Form (SBA Form 1450). The section 8(a) Business Development (BD) Program was designed by Congress to provide socially and economically disadvantaged businesses with management and technical assistance to enhance their ability to compete in the American marketplace. The 8(a) Program utilizes various forms of assistance (e.g. procurement, financial, and management and technical assistance through 7(j) designated funds) to foster the business growth and development of 8(a) Program participants.

Title: “8(a) Annual Update Addendum.”

Description of Respondents: Annually.

Form Numbers: N/A.

Annual Responses: 7,644.

Annual Burden: 15,288.

Jacqueline White,
Chief, Administrative Information Branch.

[FR Doc. 2010-1075 Filed 1-20-10; 8:45 am]

BILLING CODE P